ENVIRONMENTAL PROTECTION AGENCY

[FRL-6714-9]

Proposed Prospective Purchaser Agreement Under CERCLA for the Solar Paints & Varnishes Superfund Site

AGENCY: U.S. Environmental Protection Agency (“USEPA”).

ACTION: Proposal of CERCLA Prospective Purchaser Agreement for the Solar Paints & Varnishes Superfund Site.

SUMMARY: USEPA is proposing to execute a Prospective Purchaser Agreement (“PPA”) under authority of the Comprehensive Environmental Response, Compensation, and Liability Act of 1980 (“CERCLA”), 42 U.S.C. 9601 et seq., as amended, and under the inherent authority of the Attorney General of the United States to compromise and settle claims of the United States, for the transfer of title to property at the Solar Paints & Varnishes Superfund Site to Ralos, LLC. Ralos, in turn, will lease the property to Excel Connection, Inc. and Marshall Erecting, Inc. The owner of all three companies is Mr. Joseph Marshall. These companies and Mr. Marshall are all Settling Respondents under the PPA.

In return for a covenant not to sue and contribution protection from USEPA, the Settling Respondents will continue to participate in the Wisconsin Department of Natural Resources (“WDNR”) Voluntary Clean-Up Program for further investigation and remediation of any remaining contamination at the Site, and redevelopment of the Site. The proposed PPA has been executed by the Settling Respondents, and has been submitted to the Attorney General for approval. USEPA today is proposing to execute the PPA because it achieves a benefit for the community where the Site is located by encouraging the reuse or redevelopment of property at which fear of Superfund liability may have been a barrier, thereby fulfilling USEPA's Brownfields policies and goals. The Site is not on the National Priorities List. No further response activities by USEPA are anticipated at the Site at this time.

DATES: Comments on this proposed PPA must be received on or before July 17, 2000.

ADDRESSES: A copy of the proposed PPA is available for review at USEPA, Region 5, 77 West Jackson Boulevard, Chicago, Illinois 60604. Please contact Kevin C. Chow at (312) 353-6181 prior to visiting the Region 5 office. Comments on the proposed PPA should be addressed to Kevin C. Chow, Office of Regional Counsel (C-14J), USEPA, Region 5, 77 West Jackson Boulevard, Chicago, Illinois 60604.

FOR FURTHER INFORMATION CONTACT: Kevin C. Chow, Office of Regional Counsel, at (312) 353-6181.

SUPPLEMENTARY INFORMATION: The Site is located at 5375 South Ninth Street, Milwaukee, Wisconsin, and is about 6.23 acres in size. Solar Paints manufactured paint at the facility until May 1995, when it filed for bankruptcy. Solar Paints retained title to the property. Upon ending operations, Solar Paints left behind paint, paint ingredients, varnishes, and solvents containing hazardous substances throughout the Site.

Because of these conditions, USEPA determined that the Site posed an imminent and substantial endangerment to human health and environment, and undertook at emergency removal action. USEPA concluded the clean-up on December 8, 1995, and perfected a lien for its response costs in February 1996.

Upon acquiring title to Site property, the Settling Respondents will investigate and remediate any remaining hazardous substances under the WDNR's Voluntary Clean-Up Program, and redevelop the property in order to locate their equipment moving and wire harness assembly businesses there, thereby returning an abandoned Superfund site to productive use and creating jobs.

Under the proposed PPA, USEPA covenants not to sue and provides contribution protection to the Settling Respondents as consideration for these clean-up and redevelopment activities. Additionally, upon the Settling Respondents' performance of their obligations under the PPA, USEPA will remove its lien on property acquired by the Settling Respondents. A 30-day period, beginning on the date of publication of this notice, is open for comments on the proposed Prospective Purchaser Agreement.

Doug Ballotti,
Acting Director, Superfund Division, United States Environmental Protection Agency, Region 5.

[FR Doc. 00-15295 Filed 6-15-00; 8:45 am]

BILLING CODE 6560-50-M